DEPARTMENT OF HEALTH AND HUMAN SERVICES

Centers for Disease Control and Prevention

Mine Safety and Health Research Advisory Committee (MSHRAC)

AGENCY: Centers for Disease Control and Prevention (CDC), Department of Health and Human Services (HHS).

ACTION: Notice of meeting.

SUMMARY: In accordance with the Federal Advisory Committee Act, the Centers for Disease Control and Prevention (CDC), National Institute for Occupational Safety and Health (NIOSH), announces the following meeting for the Mine Safety and Health Research Advisory Committee (MSHRAC). This meeting is open to the public, limited only by the limited only by the space available. The meeting room accommodates approximately 50 people. If you wish to attend in person or by phone, please contact Marie Chovanec by email at MChovanec@cdc.gov or by phone at least 5 business days in advance of the meeting.

DATES: The meeting will be held on November 15, 2017, 8:00 a.m.-3:00 p.m., Mountain Time.

ADDRESSES: Sheraton Denver West Hotel, 360 Union Boulevard, Lakewood, CO 80228 or call 412-386-5302.

FOR FURTHER INFORMATION CONTACT: Jeffrey H. Welsh, Designated Federal Officer, MSHRAC, NIOSH, CDC, 626 Cochrans Mill Road, Pittsburgh, PA 15236, telephone 412-386-4040, fax 412-386-6614.

SUPPLEMENTARY INFORMATION:

Purpose: This committee is charged with providing advice to the Secretary, Department of Health and Human Services; the Director, CDC; and the Director, NIOSH, on priorities in mine safety and health research, including grants and contracts for such research, 30 U.S.C. 812(b)(2), Section 102(b)(2).

Matters To Be Considered: The meeting will focus on mining safety and health research projects and outcomes, including built-in-place refuge alternatives, explosion protection, domestic and international collaborations, fatigue management systems, mitigating dynamic failure in western underground coal mines, mining strategic planning, and mining innovations research initiative. Agenda items are subject to change as priorities dictate.

The Director, Management Analysis and Services Office, has been delegated the authority to sign Federal Register notices pertaining to announcements of meetings and other committee management activities, for both the Centers for Disease Control and Prevention and the Agency for Toxic Substances and Disease Registry.

Elaine L. Baker,
Director, Management Analysis and Services Office, Centers for Disease Control and Prevention.

[FR Doc. 2017-21423 Filed 10-4-17; 8:45 am]

BILLING CODE 4163-19-P